DEPARTMENT OF AGRICULTURE

Food and Nutrition Service

Agency Information Collection Activities: Proposed Collection, Comment Request—Grants To Improve Food Stamp Program Access (OMB No. 0584-0506)

AGENCY: Food and Nutrition Service, USDA.

ACTION: Notice.

SUMMARY: In accordance with the Paperwork Reduction Act of 1995, Public Law 104-13, this notice invites the general public, other public agencies, and grantees referred to in this Notice to comment on the proposed information collection. The proposed collection is an extension of a previously approved collection.

DATES: Comments on this notice must be received by July 9, 2001.

ADDRESSES: Send comments and request for copies of this information collection to Barbara Hallman, Chief, State Administration Branch, Food Stamp Program, Food and Nutrition Service, USDA, 3101 Park Center Drive, Alexandria, VA 22302. Comments are invited on: (a) Whether the proposed collection of information is necessary for the proper performance of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

All comments will be summarized and included in the request for Office of Management and Budget approval of the information collection. All comments will be a matter of public record.

FOR FURTHER INFORMATION CONTACT: Barbara Hallman, telephone number (703) 305-2383 or by email at Barbara.Hallman@FNS.USDA.GOV.

SUPPLEMENTARY INFORMATION: Title: Food Stamp Program: Grants to Improve Food Stamp Program Access.

OMB Number: 0584-0506.

Expiration Date: July 31, 2001.

Type of Request: Extension of previously approved collection.

Abstract: In December, 2000, FNS announced a program for competitively awarding grants and cooperative agreements for research that will improve the administrative effectiveness of the Food Stamp Program (FSP) in delivering nutrition related benefits (65 FR 81819, December 27, 2000). FNS solicited proposals to that would support research on the effects of community partnerships to reach underserved populations such as working families, children, immigrants, and elderly.

This action described in this Notice is authorized under section 17(a)(1) of the Food Stamp Act of 1977, (7 U.S.C. 2026(a)(1)) with Fiscal Year (FY) 2001 funding set aside for grants projects to educate potentially eligible persons about the nutritional benefits of the FSP. As specified in the Notice, competitive grants would be awarded to non-food stamp governmental authorities such as local school districts, public health clinics, non-profit community based organizations, and institutions of higher education, foundations and other non-profit research institutes. Grantees (winning respondents) may operate their projects for up to two years.

FNS will use the information reported from the grantees to consolidate a report of success stories, and lessons learned from the projects. Moreover, this information will be used to inform FNS about useful strategies that promote access and are successful in increasing participation of eligible persons in the FSP. FNS also intends to share widely with the public so others may replicate effective strategies of public education and outreach.

OMB approval for the collection burden associated with the solicitation for grant proposals was approved on an emergency basis for 6 months. This Notice summarizes the burden estimates that were presented in the emergency approval. This Notice will also provide burden estimates that will continue to apply to the winning grantees for the remaining period in which the projects are in operation. In January, 2001, FNS announced that it was awarding grants to 14 of the responding applicants. Each grantee was awarded no more than $300,000 for their project.

Respondents: Respondents to the “Request for Applications for Research Grants to Improve FSP Access Through Partnerships and New Technology” are non-food stamp governmental authorities, nonprofit local organizations, institutions of higher learning, foundations, and other non-profit organizations.

Estimated Number of Responses per Respondent: Under the initial collection burden, FNS estimated that 250 respondents would request and submit an application for the research grants and up to 15 of these respondents would be selected to receive grant funds from FNS. The actual number of applications received by FNS was 108, of which 14 were selected to receive funding.

Estimate of Burden: Under the initial collection burden, FNS estimated that each applicant (respondent) would need 80 hours to complete the application as specified in the Request for Applications. The winning respondents (grantees) would subsequently be required to submit quarterly reports (total of 8) and a draft and final report. The burden estimates for these actions are as follows

• Submission of Application—250 respondents times 80 hours equals 20,000 hours.

• Quarterly Reports—14 grantees times 8 quarterly reports times 3 hours equals 336 hours.

• Draft and Final Report—14 grantees times 2 reports times 60 hours (approximate for each report) equals 1,680 hours.

Estimated Total Annual Burden on Respondents: The total reporting and recordkeeping burden for OMB No. 0584-0506 is estimated to be 22,016 hours for the entire grant period. For the remaining two year period, the total annual burden placed on the 14 grantees is estimated to be 2,016 hours (estimate for quarterly and draft and final report) divided by 2 (time in which grants may be in operation) equals 1,008.

Dated: May 2, 2001.
George A. Braley,
Acting Administrator.

[FR Doc. 01-11538 Filed 5-7-01; 8:45 am]

BILLING CODE 3410-30-P